COMMITTEE FOR PURCHASE FROM PEOPLE WHO ARE BLIND OR SEVERELY DISABLED

Procurement List; Proposed Additions

AGENCY: Committee for Purchase From People Who Are Blind or Severely Disabled.

ACTION: Proposed Additions to the Procurement List.

SUMMARY: The Committee is proposing to add a product and services to the Procurement List that will be furnished by nonprofit agencies employing persons who are blind or have other severe disabilities.

DATES: Comments Must Be Received On Or Before: 2/16/2015.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product and services listed below from nonprofit agencies employing persons who are blind or have other severe disabilities.

The following product and services are proposed for addition to the Procurement List for production by the nonprofit agencies listed:

Product

PRODUCT NAME/NSN: Small Web Door Assembly/NSN: 3915-04-000-4368

MANDATORY FOR PURCHASE BY: U.S. Postal Service, Topeka, KS

MANDATORY SOURCE OF SUPPLY: Four Rivers Resource Services, Inc., Linton, IN

CONTRACTING ACTIVITY: U.S. Postal Service, Topeka Purchasing Center, Topeka, KS

LIST TYPE: C-List

Services

SERVICE TYPE: Furniture Design and Configuration Service

SERVICE IS MANDATORY FOR: Rhode Island National Guard, 330 Camp Street, Providence, RI

MANDATORY SOURCE OF SUPPLY: Industries for the Blind Inc., West Allis, WI

CONTRACTING ACTIVITY: United States Property and Fiscal Office for Rhode Island, Rhode Island National Guard, Providence, RI

SERVICE TYPE: Janitorial Service

SERVICE IS MANDATORY FOR: USDA, Agricultural Research Service, Southern Plains Agricultural Research Center, 2881 F&B Road, College Station, TX

MANDATORY SOURCE OF SUPPLY: Rising Star Resource Development Corporation, Dallas, TX

CONTRACTING ACTIVITY: Dept of Agriculture, Agricultural Research Service, ARS WBSC 32SD, Beltsville, MD

Barry S. Lineback,
Director, Business Operations.

[FR Doc. 2015-00628 Filed 1-15-15; 8:45 am]

BILLING CODE 6353-01-P